COMMISSION ON CIVIL RIGHTS

Agenda and Notice of Public Meeting of the Colorado Advisory Committee

AGENCY: Commission on Civil Rights.

ACTION: Announcement of bi-monthly planning meeting.

SUMMARY: Notice is hereby given, pursuant to the provisions of the rules and regulations of the U.S. Commission on Civil Rights (Commission), and the Federal Advisory Committee Act (FACA) that a meeting of the Colorado Advisory Committee to the Commission will convene by conference call and video conference at 2:00 p.m. (EDT) on Friday, October 5, 2018. The purpose of the meeting is to plan for project planning.

DATES: Friday, October 5, 2018, at 2:00 p.m. (EDT).

Public Call-In Information: Conference call number: 1-888-395-3237 and conference call ID: 1659256.

Video Conference Information: Joining the meeting using audio and visual is a two-step process: For audio, dial: 1-888-395-3237; ID: 1659256. For video: Go to this link to register and join the meeting: https://cc.readytalk.com/registration/#/?meeting=gexk5a8wrwg9&campaign=1kmq4ekr1j4l. Note: although video conference is available, it is not required in order to listen to the conference call via audio.

If you have difficulty with the video link, try a browser other than Explorer or contact ReadyTalk Technical Support at: 1-800-843-9166. Note: Upon receipt of your registration confirmation email, you will receive a link to test your computer before the meeting, it would be advisable to do so.

FOR FURTHER INFORMATION CONTACT: Evelyn Bohor, ebohor@usccr.gov or by phone at 303-866-1040.

SUPPLEMENTARY INFORMATION: Interested members of the public may listen to the discussion by calling the following toll-free conference call number: 1-888-395-3237 and conference call ID: 1659256; video conference link: https://cc.readytalk.com/registration/#/?meeting=gexk5a8wrwg9&campaign=1kmq4ekr1j4l.

Please be advised that, before being placed into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free telephone number provided.

Persons with hearing impairments may also follow the discussion by first calling the Federal Relay Service at 1-800-877-8339 and providing the operator with the toll-free conference call number: 1-888-395-3237 and conference call 1659256.

Members of the public are invited to make statements during the open comment period of the meeting or submit written comments. The comments must be received in the regional office approximately 30 days after each scheduled meeting. Written comments may be mailed to the Rocky Mountain Regional Office, U.S. Commission on Civil Rights, 1961 Stout Street, Suite 13-201, Denver, CO 80294, faxed to (303) 866-1040, or emailed to Evelyn Bohor at ebohor@usccr.gov. Persons who desire additional information may contact the Rocky Mountain Regional Office at (303) 866-1040.

Records and documents discussed during the meeting will be available for public viewing as they become available at https://www.facadatabase.gov/committee/meetings.aspx?cid=238; click the “Meeting Details” and “Documents” links. Records generated from this meeting may also be inspected and reproduced at the Rocky Mountain Regional Office, as they become available, both before and after the meeting. Persons interested in the work of this advisory committee are advised to go to the Commission's website, www.usccr.gov, or to contact the Rocky Mountain Regional Office at the above phone number, email or street address.

Agenda

I. Roll Call

II. Project Planning

III. Other Business

IV. Adjournment

Dated: September 17, 2018.
David Mussatt,
Supervisory Chief, Regional Programs Unit.

[FR Doc. 2018-20498 Filed 9-19-18; 8:45 am]

BILLING CODE 6335-01-P